DEPARTMENT OF JUSTICE

Antitrust Division

Notice Pursuant to the National Cooperative Research and Production Act of 1993—Southwest Research Institute: The Consortium for NASGRO Development and Support

Notice is hereby given that, on October 3, 2001, pursuant to section 6(a) of the National Cooperative Research and Production Act of 1993, 15 U.S.C. 4301 et seq. (“the Act”), Southwest Research Institute: The Consortium for NASGRO Development and Support has filed written notifications simultaneously with the Attorney General and the Federal Trade Commission disclosing (1) the identities of the parties and (2) the nature and objectives of the venture. The notifications were filed for the purpose of invoking the Act's provisions limiting the recovery of antitrust plaintiffs to actual damages under specified circumstances. Pursuant to section 6(b) of the Act, the identities of the parties are Agusta s.p.a., Cascina Costa di Samarate, Italy; EADS Airbus GmbH, Hamburg, Germany; EADS Airbus S.A., Paris, France; Embraer-Empresa Brasileira De Aeronautica S/A, São José dos Campos, Brazil; Israel Aircraft Industries Ltd., Ben-Gurion Airport, Israel; Korea Aerospace Industries Ltd., Kyungnam, Republic of Korea; Northrup Grumman Corporation, Melbourne, FL; Siemens Westinghouse Power Corporation, Orlando, FL; and Volvo Aero Corporation, Trollhättan, Sweden. The nature and objectives of the venture are to identify and prioritize, develop and implement new NASGRO capabilities for structural integrity analysis needed by the user community to address its current and anticipated problems, to provide a wider range of user support services, including but not limited to training and technical support, the facilitate the ongoing use of the NASGRO code by industry, to expand the user community of the NASGRO code, and to promote direct technical interactions among fracture mechanics experts and practitioners regarding the development and implementation of new state-of-the-art methods for structural integrity assessment. The NASGRO (previously NASA/FLAGRO) computer code was originally developed in the 1980's for fracture control analysis on NASA (National Aeronautics and Space Administration) space hardware.

Membership in this research project group remains open, and the participants intend to file additional written notification disclosing all changes in membership or planned activities.

Constance K. Robinson,
Director of Operations, Antitrust Division.

[FR Doc. 02-1541 Filed 1-18-02; 8:45 am]

BILLING CODE 4410-11-M